DEPARTMENT OF LABOR

Employment and Training Administration

[TA-W-82,900; TA-W-82,900A; TA-W-82,900B]

Honeywell International, Inc., Aerospace Order Management Division, and Process Solutions, in Circuit Test Engineers, Including On-Site Leased Workers From Tapfin-Manpower Group Solutions, Three Locations in Phoenix, Arizona; Honeywell International, Inc., Aerospace Order Management Division, Including On-Site Leased Workers From Tapfin-Manpower Group Solutions, Tempe, Arizona; Honeywell International, Inc., Aerospace Order Management Division, Including On-Site Leased Workers From Tapfin-Manpower Group Solutions, Tulsa, Oklahoma; Amended Certification Regarding Eligibility To Apply for Worker Adjustment Assistance

In accordance with Section 223 of the Trade Act of 1974, as amended (“Act”), 19 U.S.C. 2273, the Department of Labor issued a Certification of Eligibility to Apply for Worker Adjustment Assistance on November 1, 2013, applicable to workers of Honeywell International, Inc., Aerospace Order Management Division, including on-site leased workers from, Tapfin-Manpower Group Solutions, three locations in Phoenix, Arizona, (TA-W-82,900), Honeywell International, Inc., Aerospace Order Management Division, including on-site leased workers from Tapfin-Manpower Group Solutions, Tempe, Arizona, (TA-W-82,900A), and Honeywell International, Inc., Aerospace Order Management Division, including on-site leased workers from Tapfin-Manpower Group Solutions, Tulsa, Oklahoma, (TA-W-82,900B). The Department's notice of determination was published in the Federal Register on November 21, 2013 (Volume 78, No. 225 FR 69881).

At the request of State Workforce Official, the Department reviewed the certification for workers of the subject firm. The workers are engaged in activities related to the supply of order management services and in circuit testing services. The investigation confirmed that worker separations in the Process Solutions, In Circuit Test Engineers group in Phoenix, Arizona are attributable to an acquisition of services from a foreign country, as were separations in the Aerospace Order Management Division.

The amended notice applicable to TA-W-82,900 is hereby issued as follows:

All workers of Honeywell International, Inc., Aerospace Order Management Division and Process Solutions, In Circuit Test Engineers, including on-site leased workers from, Tapfin-Manpower Group Solutions, three locations in Phoenix, Arizona, (TA-W-82,900), Honeywell International, Inc., Aerospace Order Management Division, including on-site leased workers from Tapfin-Manpower Group Solutions, Tempe, Arizona, (TA-W-82,900A), and Honeywell International, Inc., Aerospace Order Management Division, including on-site leased workers from Tapfin-Manpower Group Solutions, Tulsa, Oklahoma, (TA-W-82,900B), who became totally or partially separated from employment on or after July 11, 2012 through November 1, 2015, and all workers in the group threatened with total or partial separation from employment on the date of certification through November 1, 2015, are eligible to apply for adjustment assistance under Chapter 2 of Title II of the Trade Act of 1974, as amended.

Signed in Washington, DC, this 25th day of April, 2014.
Michael W. Jaffe,
Certifying Officer, Office of Trade Adjustment Assistance.

[FR Doc. 2014-10726 Filed 5-9-14; 8:45 am]

BILLING CODE 4510-FN-P